SOCIAL SECURITY ADMINISTRATION

Agency Information Collection Activities: Proposed Request and Comment Request

The Social Security Administration (SSA) publishes a list of information collection packages that will require clearance by the Office of Management and Budget (OMB) in compliance with Public Law 104-13 effective October 1, 1995, The Paperwork Reduction Act of 1995. SSA is soliciting comments on the accuracy of the agency's burden estimate; the need for the information; its practical utility; ways to enhance its quality, utility and clarity; and on ways to minimize burden on respondents, including the use of automated collection techniques or other forms of information technology.

Written comments and recommendations regarding the information collection(s) should be submitted to the SSA Reports Clearance Officer and to the OMB Desk Officer at the following addresses:

(OMB) Office of Management and Budget, Attn: Desk Officer for SSA, New Executive Office Building, Room 10230, 725 17th St., NW., Washington, DC. 20503

(SSA) Social Security Administration, DCFAM, Attn: Frederick W. Brickenkamp 1-A-21 Operations Bldg., 6401 Security Blvd., Baltimore, MD 21235

I. The information collections listed below will be submitted to OMB within 60 days from the date of this notice. Therefore, your comments should be submitted to SSA within 60 days from the date of this publication. You can obtain copies of the collection instruments by calling the SSA Reports Clearance Officer at 410-965-4145, or by writing to him at the address listed above.

1. Site Review Questionnaire for Volume Payees, SSA-637; Site Review Questionnaire for Fee-for Service Payees, SSA-638; Site Review—Beneficiary Interview Form, SSA-639—0960-NEW. Titles II and XVI of the Social Security Act provide for the payment of Social Security and Supplemental Security Income (SSI) benefits to a relative, another person, or an organization when the best interests of the beneficiary will be served. Social security regulations outline the duties and responsibilities of representative payees and require a written report accounting for these benefits.

To ensure that benefits are being used properly for beneficiaries, SSA will conduct triennial site reviews for fee-for service payees and volume payees (organizations serving 100 or more beneficiaries). The reviews include a face-to-face meeting with the payee and appropriate staff and examination/verification of a sample of beneficiary records and supporting documentation, and may include beneficiary or custodian interviews. The information gathered using forms SSA-637, SSA-638 and SSA-639 will be used to ensure compliance with representative payment policies and procedures. It will enable SSA to identify poor payee performance and initiate corrective action as appropriate. The respondents are individuals who receive a fee for service, organizations serving as representative payees for 100 or more Social Security and Supplemental Security Income beneficiaries, and beneficiaries or custodians. Following is an estimate of the annual public reporting burden:

| Volume payees | Fee-for-service payees | Beneficiaries/custodians
Number of Respondents | 347 | 333 | 2,040
Frequency of Response | 1 | 1 | 1
Average Burden Per Response (Minutes) | 60 | 60 | 10
Estimated Annual Burden (Hours) | 347 | 333 | 340

2. Earnings Record Information—0960-0505. The information on Form SSA-L3231-C1 is used by SSA to ensure that the proper person is credited with earnings reported for a minor under age 7. The respondents are businesses reporting earnings for children under age 7.

Number of Respondents: 20,000.

Frequency of Response: 1.

Average Burden Per Response: 10 minutes.

Estimated Annual Burden: 3,333 hours.

3. Employer Verification of Earnings After Death—0960-0472. The information collected on Form SSA-L4112 is used by SSA to determine whether wages reported by an employer are correct, when SSA records indicate that the wage earner is deceased. The respondents are employers who report wages for a deceased employee.

Number of Respondents: 50,000.

Frequency of Response: 1.

Average Burden Per Response: 10 minutes.

Estimated Annual Burden: 8,333 hours.

II. The information collections listed below have been submitted to OMB for clearance. Your comments on the information collections would be most useful if received by OMB and SSA within 30 days from the date of this publication. You can obtain a copy of the OMB clearance packages by calling the SSA Reports Clearance Officer on (410) 965-4145, or by writing to him at the address listed above.

1. Application Statement for Child's Insurance Benefits—0960-0010. Title II of the Social Security Act provides for payment of monthly benefits to the children of an insured retired, disabled or deceased worker, if certain conditions are met. The form SSA-4-BK is used by the Social Security Administration to collect information needed to determine whether the child or children are entitled to benefits. The respondents are children of the worker or individuals who complete this form on their behalf.

| Life claims | Death claims
Number of Respondents | 925,000 | 815,000.
Frequency of Response | 1 | 1.
Average Burden Per Response | 10.5 minutes | 15.5 minutes.
Estimated Annual Burden | 161,875 hours | 210,542 hours.

2. Request for Internet Service—Password—0960-NEW. SSA will collect and use information to establish a Password Data File. The file will be used to allow customers to conduct electronic business with the Agency. SSA will request the following information to verify the customer's identity: Name, Social Security Number, Password Request Code, Last Month Payment Amount and Director Deposit Account Number (if applicable). SSA may also ask for a shared secret created by SSA and mailed or electronically sent to the requestor. The respondents are individuals electing to conduct business with SSA in the electronic medium.

Number of Respondents: 250,000.

Frequency of Response: 1.

Average Burden Per Response: 10 minutes.

Estimated Annual Burden: 41,667 hours.

Dated: February 7, 2001.
Frederick W. Brickenkamp,
Reports Clearance Officer.

[FR Doc. 01-3583 Filed 2-12-01; 8:45 am]

BILLING CODE 4191-02-P